DEPARTMENT OF THE INTERIOR

Bureau of Land Management

[BLM_AZ_FRN_MO4500183051]

30-Day Extension of the Call for Nominations for the Baaj Nwaavjo Itah Kukveni-Ancestral Footprints of the Grand Canyon National Monument Advisory Committee

AGENCY: Bureau of Land Management, Interior.

ACTION: Notice of extension.

SUMMARY: The Bureau of Land Management (BLM) is seeking nominations for membership on the Baaj Nwaavjo Itah Kukveni-Ancestral Footprints of the Grand Canyon National Monument Advisory Committee (MAC). The MAC will advise the Secretary of the Interior through the BLM regarding the development of the management plan and, as appropriate, management of the Baaj Nwaavjo I'tah Kukveni-Ancestral Footprints of the Grand Canyon National Monument. This is a 30-day extension of the call for nominations published in the Federal Register on August 20, 2024.

DATES: The deadline for submission of nominations for membership on the MAC published August 20, 2024, at 89 FR 67490, is extended. Nominations for membership on the MAC must be received no later than November 4, 2024.

ADDRESSES: Nominations for the MAC should be sent to the BLM office listed in the FOR FURTHER INFORMATION CONTACT section of this notice.

FOR FURTHER INFORMATION CONTACT: Rachel Carnahan, Public Affairs Specialist, BLM Arizona Strip District Office, 345 East Riverside Drive, St. George, Utah 84780, phone: (435) 688-3303, email: rcarnahan@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Presidential Proclamation 10533 directs the Secretary of the Interior, through the Director of the BLM, and the Secretary of Agriculture, through the Chief of the U.S. Forest Service, to establish and maintain an advisory committee under the Federal Advisory Committee Act (5 U.S.C. ch. 10) with the specific purpose of providing information and advice regarding the development of the management plan and, as appropriate, management of the Baaj Nwaavjo I'tah Kukveni-Ancestral Footprints of the Grand Canyon National Monument. The MAC is established in accordance with section 309 of the Federal Land Policy and Management Act, as amended (43 U.S.C. 1739). The BLM is subject to standards and procedures for the creation, operation, and termination of BLM resource advisory councils found at 43 CFR 1784 subpart 1787 and the Federal Advisory Committee regulations found at 41 CFR part 102-3.

The MAC will consist of 15 representatives to be appointed by the Secretary of the Interior as follows:

1. A representative of the Arizona Game and Fish Department;

2. A representative employed by a State agency;

3. An elected official from local government;

4. Three representatives of Tribal Nations;

5. A representative of developed outdoor recreation, off-highway vehicle users, or commercial recreation activities in the Monument;

6. A representative of the conservation community;

7. A representative of wildlife, hunting, or fishing organizations;

8. A representative of cultural or historical interests;

9. A representative of the scientific community;

10. A representative of the ranching community;

11. A representative of local business owners; and

12. Two representatives of the public-at-large.

Representatives will be appointed to the MAC to serve three-year staggered terms.

Nominations should include a resume providing an adequate description of the nominee's qualifications, including information that would enable the Department of the Interior to make an informed decision regarding the membership requirements of the MAC and permit the Department of the Interior to contact a potential member. Nominees are strongly encouraged to include supporting letters from employers, associations, professional organizations, and/or other organizations that indicate support by a meaningful constituency for the nominee. Nominees should indicate any BLM permits, leases, or licenses that they hold personally or are held by their employer. Members of the MAC serve without compensation. However, while away from their homes or regular places of business, members engaged in MAC business may be allowed travel expenses, including per diem in lieu of subsistence, as authorized by 5 U.S.C. 5703, in the same manner as persons employed intermittently in Federal Government service.

The MAC will meet approximately two to four times annually, and at such other times as designated by the Designated Federal Officer. Simultaneous with this notice, the BLM will post additional information for submitting nominations at https://www.blm.gov/get-involved/resource-advisory-council/near-you/arizona/ancestral-footprints-committee.

The original call for nominations was published in the Federal Register (89 FR 67490) on August 20, 2024, with a 45-day nomination period ending October 4, 2024. This notice provides additional time for nominations (see DATES, above).

(Authority: 43 CFR 1784.4-1)

Darrel Monger,
Arizona Strip District Manager.

[FR Doc. 2024-22576 Filed 10-2-24; 8:45 am]

BILLING CODE 4331-12-P